DEPARTMENT OF HEALTH AND HUMAN SERVICES

Health Resources and Services Administration

Agency Information Collection Activities: Proposed Collection: Public Comment Request; Information Collection Request Title: Evaluation of the Maternal and Child Health Bureau's Autism CARES Act Initiative, OMB No. 0915-0335—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, provided below, or any other aspect of the ICR.

DATES: Comments on this ICR must be received no later than May 5, 2020.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, HRSA Information Collection Clearance Officer at (301) 443-1984.

SUPPLEMENTARY INFORMATION: When submitting comments or requesting information, please include the ICR title for reference.

Information Collection Request Title: Evaluation of the Maternal and Child Health Bureau's Autism CARES Act Initiative, OMB No. 0915-0335—Revision.

Abstract: In response to the growing need for research and resources devoted to autism spectrum disorder and other developmental disabilities, the U.S. Congress passed the Combating Autism Act of 2006 (Pub. L. 109-416); it was reauthorized by the Combating Autism Reauthorization Act of 2011 (Pub. L. 112-32), the Autism Collaboration, Accountability, Research, Education, and Support (Autism CARES) Act of 2014 (Pub. L. 113-157) and the Autism CARES Act of 2019 (Pub. L. 116-60). Through these Autism CARES public laws, HRSA has been tasked with increasing awareness of autism spectrum disorder and developmental disabilities, reducing barriers to screening and diagnosis, promoting evidence-based interventions, and training healthcare professionals in the use of valid and reliable diagnostic tools.

Need and Proposed Use of the Information: The purpose of this information collection is to design and implement an impact evaluation to assess the effectiveness of HRSA's Maternal and Child Health Bureau's activities in meeting the goals and objectives of the Autism CARES Act. This ICR is a revision to an existing package; this study is the fourth evaluation of HRSA's autism activities and employs similar data collection methodologies as the prior studies. Grantee interviews remain the primary form of data collection. Minor proposed revisions to the data collection process include (1) modifications to the interview questions based on the current legislation and HRSA's Notices of Funding Opportunity and (2) the creation of a new Grantee Survey to collect common data elements across the three program areas that focus on training, research, and state systems.

Likely Respondents: Grantees funded by HRSA's Autism programs will be the respondents for this data collection activity. The grantees are from the following HRSA programs: Leadership Education in Neurodevelopmental and Related Disabilities Training Program; Developmental Behavioral Pediatrics Training Program; State Innovation in Care Integration Program; State Innovation in Care Coordination Program; Research Network Program; Research Program; Interdisciplinary Technical Assistance Center; and the State Public Health Autism Center Resource Center.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:
Grant program/form name | Number of respondents | Average number of responses per respondent | Total responses | Average hours per response | Total hour burden
Grantee Survey (Training and Research Grantees) | 80 | 3 | 240.0 | 0.50 | 120.00
Grantee Survey (State Systems Grantees) | 5 | 3 | 15.0 | 0.50 | 7.50
Training Interview Guide | 64 | 1.5 | 96.0 | 1.25 | 120.00
State Systems Interview Guide | 5 | 1.5 | 7.5 | 1.25 | 9.37
Research Interview Guide | 24 | 1.5 | 36.0 | 1.00 | 36.00
Research Quantitative Data Collection Form | 6 | 1 | 6.0 | 1.00 | 6.00
Interdisciplinary Technical Assistance Center Interview Guide | 1 | 2 | 2.0 | 1.00 | 2.00
State Public Health Autism Center Interview Guide | 1 | 2 | 2.0 | 1.00 | 2.00
Total | 186 |  | 404.5 |  | 302.87

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2020-04600 Filed 3-5-20; 8:45 am]

BILLING CODE 4165-15-P